DEPARTMENT OF JUSTICE

Antitrust Division

Notice Pursuant to the National Cooperative Research and Production Act of 1993—Node.js Foundation

Notice is hereby given that, on August 17, 2015, pursuant to section 6(a) of the National Cooperative Research and Production Act of 1993, 15 U.S.C. 4301 et seq. (“the Act”), Node.js Foundation (“Node.js Foundation”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: npm, Inc., Oakland, CA; StrongLoop, Inc., San Mateo, CA; YLD! Limited, London, UNITED KINGDOM; International Business Machines Corporation, Endicott, NY; DigitalOcean, New York, NY; Joyent, Inc., San Francisco, CA; Codefresh, Inc., Palo Alto, CA; Fidelity, Boston, MA; Sauce Labs, San Francisco, CA; Progress Software, Bedford, MA; Microsoft, Redmond, WA; PayPal, San Jose, CA; SAP SE., Walldorf, GERMANY; Famous Industries, Inc., San Francisco, CA; nearForm, Waterford, IRELAND; GoDaddy.com, LLC, Scottsdale, AZ; NodeSource, Inc., Anaheim, CA; Intel, Santa Clara, CA; Groupon, Inc., Chicago, IL; and Apigee Corporation, San Jose, CA. The general area of Node.js Foundation's planned activity is to: (a) Enable widespread adoption and help accelerate development of open source, scalable network application technologies that run across distributed devices (the “Platform”); (b) promote the Platform worldwide; and (c) undertake such other activities as may from time to time be appropriate to further the purposes and achieve the goals set forth above. In support of such Purpose, Node.js Foundation may engage in some or all of the following activities: (a) Drive the development of, disseminate, support and maintain the Platform; (b) create various printed and/or electronic materials for distribution to members and non-members; (c) maintain its own Web site; (d) coordinate the promotion of the Platform among members and non-members, as well as create basic marketing promotional collateral (e.g., both Web pages as well as tangible materials); and (e) undertake those other activities as the Board may from time to time approve consistent with and in furtherance of the Purpose.

Patricia A. Brink,
Director of Civil Enforcement, Antitrust Division.

[FR Doc. 2015-24525 Filed 9-25-15; 8:45 am]

BILLING CODE 4410-11-P